DEPARTMENT OF TRANSPORTATION

Federal Highway Administration

Environmental Impact Statement; Nobles County, Minnesota

AGENCY: Federal Highway Administration (FHWA), DOT.

ACTION: Notice of Intent.

SUMMARY: The FHWA is issuing this notice to advise the public that an environmental impact statement (EIS) will be prepared for the proposed reconstruction of Trunk Highway 60 (TH 60) in Nobles County, Minnesota.

FOR FURTHER INFORMATION CONTACT: Tamara Cameron, Federal Highway Administration, Galtier Plaza, Box 75, 175 East Fifth Street, Suite 500, St. Paul, Minnesota 55101-2904, Telephone (651) 291-6121; or Lisa Bigham, Project Manager, Minnesota Department of Transportation—District 7, 501 Victory Drive, P.O. Box 4039, Mankato, Minnesota 56001, Telephone (507) 389-6877 V, (651) 296-9930 TTY.

SUPPLEMENTARY INFORMATION: The FHWA, in cooperation with the Minnesota Department of Transportation, will prepare an EIS on a proposal to improve TH 60 from approximately 2.9 kilometers (1.8 miles) south of the Minnesota/Iowa border to the junction of Interstate 90 at Worthington, Minnesota. This segment of TH 60 under study is a two-lane roadway with the exception of 1.9 kilometers (1.2 miles) of four-lane roadway within the city of Worthington. Improvements to the corridor are considered necessary to provide for existing and projected traffic demands, correct existing operational safety problems, and improve mobility and access to the interstate and trunk highway systems.

Alternatives under consideration include:

• No Build.

• Reconstruct TH 60 as a four lane highway on the existing alignment.

• Reconstruct TH 60 as a four lane highway on the existing alignment except with an easterly Bigelow bypass.

• Reconstruct TH 60 with the existing number of lanes on the existing alignment.

• Reconstruct TH 60 with two or four lanes with a west Worthington bypass, with or without an easterly Bigelow bypass.

The “Trunk Highway 60—Reconstruction, Scoping Document/Draft Scoping Decision Document” was published on March 20, 2000. Copies of this document were distributed to agencies, interested persons and libraries and a 30-day comment period was provided for review of the document. A public scoping meeting was held on April 13, 2000 in Worthington, MN to provide an opportunity for all interested persons, agencies and groups to comment on the proposed action. Public and agency interest resulted in modification of the project alternatives that will be carried forward in the EIS. These alternatives are addressed in the June, 2000 Scoping Decision Document. This scoping effort resulted in a decision to prepare an EIS for this action.

Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: August 17, 2000.
Stanley M. Graczyk,
Project Development Engineer, Federal Highway Administration, St. Paul, Minnesota.

[FR Doc. 00-21837 Filed 8-25-00; 8:45 am]

BILLING CODE 4910-22-M